DEPARTMENT OF AGRICULTURE

Natural Resources Conservation Service

[Docket No. NRCS-2014-0014]

Notice of Intent for the East Locust Creek Watershed Revised Plan, Sullivan County, Missouri

AGENCY: Natural Resources Conservation Service, USDA.

ACTION: Notice of Intent to Prepare a Supplemental Environmental Impact Statement.

SUMMARY: Pursuant to Section 102(2)(c) of the National Environmental Policy Act of 1969 (NEPA); as amended (42 U.S.C. 4321 et seq.), the Natural Resources Conservation Service (NRCS), U.S. Department of Agriculture, as lead federal agency, will prepare a Supplemental Environmental Impact Statement (SEIS) for the East Locust Creek Watershed Revised Plan (ELCWRP), Sullivan County, Missouri, involving the proposed construction of a multi-purpose reservoir. The purpose of this supplement is to address changes which have occurred since the NRCS prepared the East Locust Creek Watershed Revised Plan and Environmental Impact Statement in 2006. The SEIS will update the original EIS with more recent relevant environmental information and expand the alternatives analysis beyond those previously considered. The SEIS will evaluate reasonable and practicable alternatives and their expected environmental impacts.

ADDRESSES: To be included on the mailing list for review of the SEIS, all requests should be submitted to Mr. Harold Deckerd, USDA-Natural Resources Conservation Service, Parkade Center, Suite 250, 601 Business Loop 70 West, Columbia, Missouri 65203-2585.

FOR FURTHER INFORMATION CONTACT: Mr. Harold Deckerd, NRCS Missouri State Office, by email: harold.deckerd@mo.usda.gov, by regular mail (see ADDRESSES), or by telephone: 573-876-0912.

SUPPLEMENTARY INFORMATION: The NRCS in cooperation with the North Central Missouri Regional Water Commission (NCMRWC) and the U.S. Army Corps of Engineers (Corps) will prepare a SEIS for the East Locust Creek Watershed Revised Plan in Sullivan County, Missouri authorized pursuant to the Watershed Protection and Flood Prevention Act, Public Law 83-566, (16 U.S.C. 1001-1008). The NRCS has determined that additional analysis is required and that the purposes of the National Environmental Policy Act would be furthered through the preparation of the SEIS. The Corps will be a cooperating agency in the preparation of the SEIS. The SEIS will consider all reasonable and practicable alternatives to meet the purpose and need for the federal action. The SEIS will assess the potential social, economic, and environmental impacts of the project, and will address federal, state, and local regulatory requirements along with pertinent environmental and socio-economic issues. The SEIS will analyze the direct, indirect, and cumulative effects of the proposed action. The Federal SEIS process begins with the publication of this Notice of Intent.

1. Background: The 79,490-acre East Locust Creek Watershed is located in north-central Missouri approximately 30 miles west of Kirksville in Sullivan County with small portions of the watershed in neighboring Putnam and Linn Counties. East Locust Creek is a tributary to Locust Creek which drains to the Grand River and the Missouri River.

The Sullivan and Putnam County Commissions and the Sullivan and Putnam County Soil and Water Conservation Districts initially applied for federal watershed planning assistance in the East Locust Creek Watershed in 1974. Missouri governor Christopher Bond approved their application that same year. The U.S. Soil Conservation Service (later renamed and hereafter referred to as NRCS) collected pre-authorization planning data and analyzed the East Locust Creek Watershed as part of the larger Northern Missouri River Tributaries Study. East Locust Creek Watershed planning was authorized in March 1984 and NRCS began planning activities under the authority of the Watershed Protection and Flood Prevention Act of 1954, Public Law 83-566, as amended (16 U.S.C. 1001-1008). NRCS completed the East Locust Creek Watershed Plan-Environmental Assessment in 1986. The plan recommended one large and 120 small dams to reduce soil erosion and flood damages. A Finding of No Significant Impact (FONSI) was published in the Federal Register on July 17, 1986. Local sponsors signed the Watershed Agreement in November 1986 and assistance for installation was authorized in August 1987.

The Missouri Drought Plan (Missouri Dept. of Natural Resources, 2002) places Sullivan County and surrounding counties in a region classified as having “severe surface and groundwater supply drought vulnerability.” Underlying bedrock geology severely limits groundwater quality and availability. Recognizing the regional need for a dependable water supply, the Locust Creek Watershed Board in November 2000 requested NRCS study a potential supplement to the 1986 East Locust Creek Watershed Plan-Environmental Assessment to include a public water supply reservoir. The NCMRWC was formed in 2001 with assistance from the Missouri Department of Natural Resources “to provide an abundant source of low-cost, pure, quality water for the residents of North Central Missouri.” The NCMRWC immediately became a local sponsor of the planning effort. NRCS began planning activities following authorization in July 2003. NRCS issued a Notice of Intent to prepare an Environmental Impact Statement in September of 2004. NRCS completed the East Locust Creek Watershed Revised Plan and Environmental Impact Statement (ELCWRP) in March 2006 and announced a Record of Decision to proceed with installation in September 2006. The ELCWRP found the present water supply systems for the neighboring ten-county region are inadequate and experience pressures from drought conditions. In addition, the ELCWRP documented annual flood damages to crop and pasture land, fences, roads and bridges. The ELCWRP also identified the need for additional water-based recreational opportunities in the surrounding area. The project has not been installed because sufficient funding has not been available. Installation of the proposed action will result in temporary and permanent impacts to jurisdictional waters of the United States requiring a Clean Water Act (CWA) Section 404 permit. The Corps has not issued a Section 404 permit for this project. Potential impacts of all reasonable and practicable alternatives will be updated and analyzed in the SEIS in compliance with Section 404(b)(1) of the CWA.

2. Proposed Action: The proposed federal action as presented in the 2006 EIS includes one approximately 2,235-acre multiple-purpose reservoir on East Locust Creek, a water intake structure, a raw water line, fish and wildlife habitat enhancement and water-based recreational facilities. The purpose of the proposed federal action is to: Provide approximately 7.0 million gallons per day of raw water supply to meet the projected 50-year usage demand for the ten counties served by the NCMRWC; provide approximately 72,000 annual water-based recreational user-days and provide an approximate 22% reduction in annual flood damages in the 16.3 miles of East Locust Creek floodplain between the reservoir and the confluence with Locust Creek.

3. Alternatives: The SEIS will evaluate environmental impacts of the following alternatives and any other action alternatives identified that may be reasonable and practicable: (1) Creation of a multi-purpose reservoir; (2) a range of reasonable alternatives to meet the overall project purposes and needs; and (3) the no-action alternative. The SEIS will identify the National Economic Development (NED) alternative, which is the alternative with the greatest net economic benefit consistent with protecting the Nation's environment and document the estimated direct, indirect and cumulative impacts of the proposed action and alternatives on the environment.

4. Scoping: In developing the 2006 ELCWRP, numerous scoping meetings were held to gather public input and keep the community informed on the status of project planning activities. Several community surveys and interviews were conducted to gather information, and periodic news articles were published to update local citizens. Problems identified through the scoping process include:

• Inadequate rural water supply in the 10-county Green Hills Region

• Annual flood damages to crops, pastures, fences and infrastructure

• Unmet demand for water-based recreational facilities.

NEPA procedures do not require additional public scoping meetings for the development of a SEIS and none are planned at this time. Comments received from Federal, State or local agencies, Native American Tribes, non-governmental organizations, and interested citizens will be used to assist in the development of the Draft and Final SEIS (See ADDRESSES above to submit comments).

5. Public Involvement: The NRCS invites full public participation to promote open communication and better decision-making. All persons and organizations with an interest in the ELCWRP are urged to comment. Public comments are welcomed and opportunities for public participation include submitting comments to the NRCS: (1) During the development of the Draft SEIS, (2) during the review and comment period upon publishing the Draft SEIS; and (3) for 30 days after publication of the Final SEIS. Distribution of the comments received will be included in the Administrative Record without change and may include any personal information provided unless the commenter indicates that the comment includes information claimed to be confidential business information.

6. Other Environmental Review and Coordination Requirements: The Corps will be a cooperating agency in the preparation of the SEIS. The NRCS as the lead federal agency will continue to coordinate with other agencies and entities throughout the NEPA process including: The NCMRWC, Missouri Department of Natural Resources (Section 401, Historic Preservation and Dam Safety), Missouri Department of Conservation, U.S. Fish and Wildlife Service and USEPA. The Draft SEIS will address project compliance with applicable laws and regulations, including NEPA, CWA, Endangered Species Act, and the National Historic Preservation Act.

7. Permits or Licenses Required: The proposed federal action would require a CWA Section 404 permit from the Corps. The project would also require certification by the State of Missouri, Department of Natural Resources, under Section 401 of the CWA, that the project would not violate state water quality standards. A land disturbance permit issued by the Missouri Department of Natural Resources under Section 402 of the CWA (National Pollutant Discharge Elimination System Permit) would be required. Construction and Safety Permits issued by the Missouri Dam and Reservoir Safety Program would also be required.

8. Availability of Draft SEIS: The draft SEIS is estimated to be complete and available for public review in 2016.

(This activity is listed in the Catalog of Federal Domestic Assistance under NO. 10.904, Watershed Protection and Flood Prevention, and is subject to the provisions of Executive Order 12372, which requires intergovernmental consultation with State and local officials.)

Dated: November 25, 2014.
J.R. Flores,
State Conservationist, Natural Resources Conservation Service.

[FR Doc. 2014-28673 Filed 12-5-14; 8:45 am]

BILLING CODE 3410-16-P